SMALL BUSINESS ADMINISTRATION

[Disaster Declaration #14034 and #14035; New York Disaster #NY-00146]

Disaster Declaration; New York

AGENCY: U.S. Small Business Administration.

ACTION: Notice.

SUMMARY: This is a notice of an Administrative declaration of a disaster for the State of New York dated 06/19/2014.

Incident: Flash floods.

Incident Period: 05/15/2014 through 05/17/2014.

DATES: Effective 06/19/2014.

Physical Loan Application Deadline Date: 08/18/2014.

Economic Injury (EIDL) Loan Application Deadline Date: 03/19/2015.

ADDRESSES: Submit completed loan applications to: U.S. Small Business Administration Field, Operations Center—East, 101 Marietta Street NW., Suite 700, Atlanta, GA 30303.

FOR FURTHER INFORMATION CONTACT: Alan Escobar, Office of Disaster Assistance, U.S. Small Business Administration, 409 3rd Street SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: Yates.

Contiguous Counties:

New York: Ontario, Schuyler, Seneca, Steuben.

The Interest Rates are:

| Percent
For Physical Damage:
Homeowners with Credit Available Elsewhere Homeowners without | 4.375
Credit Available Elsewhere Businesses with Credit Available | 2.188
Elsewhere Businesses without Credit Available Elsewhere | 6.000
Non-Profit Organizations with Credit Available Elsewhere | 4.000
Non-Profit Organizations without Credit Available Elsewhere | 2.625
For Economic Injury:
Businesses & Small Agricultural Cooperatives without Credit Available Elsewhere Non-Profit Organizations without | 4.000
Credit Available Elsewhere | 2.625

The number assigned to this disaster for physical damage is 14034 6 and for economic injury is 14035 0.

The States which received an EIDL Declaration # are New York.

(Catalog of Federal Domestic Assistance Numbers 59002 and 59008)

Dated: June 19, 2014.
Maria Contreras-Sweet,
Administrator.

[FR Doc. 2014-15145 Filed 6-26-14; 8:45 am]

BILLING CODE 8025-01-P